DEPARTMENT OF VETERANS AFFAIRS

Advisory Committee on the Readjustment of Veterans; Notice of Meeting Cancellation

The Department of Veterans Affairs gives notice under the Federal Advisory Committee Act that the meeting of the Advisory Committee on the Readjustment of Veterans, previously scheduled to be held at the Department of Veterans Affairs, 811 Vermont Avenue NW, Conference Room 3172/3174, Washington, DC 20420, on March 16-18, 2020, has been cancelled.

For more information, please contact Sherry Moravy, Designated Federal Officer, Department of Veterans Affairs, Readjustment Counseling Service (10RCS) at (734) 222-4319 or via email at VHA10RCSAction@va.gov.

Dated: March 10, 2020.
Jelessa M. Burney,
Federal Advisory Committee Management Officer.

[FR Doc. 2020-05269 Filed 3-13-20; 8:45 am]

BILLING CODE P